DEPARTMENT OF ENERGY

Federal Energy Regulatory Commission

Combined Notice of Filings #1

Take notice that the Commission received the following electric rate filings:

Docket Numbers: ER11-4198-000.

Applicants: Midwest Independent Transmission System Operator, Inc., ITC Midwest LLC.

Description: Midwest Independent Transmission System Operator, Inc. submits tariff filing per 35.19a(b): ITCM-Lost Lakes E&P Refund Report to be effective N/A.

Filed Date: 10/28/2011.

Accession Number: 20111028-5045.

Comment Date: 5 p.m. Eastern Time on Friday, November 18, 2011.

Docket Numbers: ER11-4695-001.

Applicants: Hafslund Energy Trading LLC.

Description: Hafslund Energy Trading LLC submits tariff filing per 35.17(b): Hafslund supplement to be effective 9/29/2011.

Filed Date: 10/27/2011.

Accession Number: 20111027-5131.

Comment Date: 5 p.m. Eastern Time on Thursday, November 17, 2011.

Docket Numbers: ER11-4729-001.

Applicants: APN Starfirst, LP.

Description: APN Starfirst, LP submits tariff filing per 35: Market Based Rate Filing (Compliance) to be effective 10/1/2011.

Filed Date: 10/27/2011.

Accession Number: 20111027-5135.

Comment Date: 5 p.m. Eastern Time on Thursday, November 17, 2011.

Docket Numbers: ER12-215-000.

Applicants: Southern California Edison Company.

Description: Southern California Edison Company submits tariff filing per 35.13(a)(2)(iii: SCE 2012 Update ETC Reliability Services Rate to be effective 1/1/2012.

Filed Date: 10/27/2011.

Accession Number: 20111027-5130.

Comment Date: 5 p.m. Eastern Time on Thursday, November 17, 2011.

Docket Numbers: ER12-216-000.

Applicants: Appalachian Power Company.

Description: Appalachian Power Company submits tariff filing per 35.13(a)(2)(iii: 20111027 Musser Revised PSA to be effective 10/21/2011.

Filed Date: 10/27/2011.

Accession Number: 20111027-5147.

Comment Date: 5 p.m. Eastern Time on Thursday, November 17, 2011.

Docket Numbers: ER12-217-000.

Applicants: Appalachian Power Company.

Description: Appalachian Power Company submits tariff filing per 35.13(a)(2)(iii: 20111027 CBEC Revised PSA to be effective 10/21/2011.

Filed Date: 10/27/2011.

Accession Number: 20111027-5148.

Comment Date: 5 p.m. Eastern Time on Thursday, November 17, 2011.

Docket Numbers: ER12-218-000.

Applicants: Appalachian Power Company.

Description: Appalachian Power Company submits tariff filing per 35.13(a)(2)(iii: 20111027 Radford Revised PSA to be effective 10/21/2011.

Filed Date: 10/27/2011.

Accession Number: 20111027-5149.

Comment Date: 5 p.m. Eastern Time on Thursday, November 17, 2011.

Docket Numbers: ER12-219-000.

Applicants: Madison Gas and Electric Company.

Description: Madison Gas and Electric Company submits tariff filing per 35.13(a)(2)(iii: MGE, WPL Certificate of Concurrence to be effective 9/26/2011.

Filed Date: 10/27/2011.

Accession Number: 20111027-5150.

Comment Date: 5 p.m. Eastern Time on Thursday, November 17, 2011.

Docket Numbers: ER12-220-000.

Applicants: Appalachian Power Company.

Description: Appalachian Power Company submits tariff filing per 35.13(a)(2)(iii: 20111027 Salem Revised PSA to be effective 10/21/2011.

Filed Date: 10/27/2011.

Accession Number: 20111027-5155.

Comment Date: 5 p.m. Eastern Time on Thursday, November 17, 2011.

Docket Numbers: ER12-221-000.

Applicants: Appalachian Power Company.

Description: Appalachian Power Company submits tariff filing per 35.13(a)(2)(iii: 20111027 VPI Revised PSA to be effective 10/21/2011.

Filed Date: 10/27/2011.

Accession Number: 20111027-5161.

Comment Date: 5 p.m. Eastern Time on Thursday, November 17, 2011.

Docket Numbers: ER12-222-000.

Applicants: Appalachian Power Company.

Description: Appalachian Power Company submits tariff filing per 35.13(a)(2)(iii: 20111027 ODEC Revised PSA to be effective 10/21/2011.

Filed Date: 10/27/2011.

Accession Number: 20111027-5163.

Comment Date: 5 p.m. Eastern Time on Thursday, November 17, 2011.

Docket Numbers: ER12-223-000.

Applicants: Entergy Gulf States Louisiana, LLC.

Description: Entergy Gulf States Louisiana, LLC submits tariff filing per 35.13(a)(2)(iii: EGSL-SRMPA Interim Service Agreement to be effective 11/1/2011.

Filed Date: 10/27/2011.

Accession Number: 20111027-5164.

Comment Date: 5 p.m. Eastern Time on Thursday, November 17, 2011.

Docket Numbers: ER12-224-000.

Applicants: Stream Energy Columbia, LLC.

Description: Stream Energy Columbia, LLC submits tariff filing per 35.12: Market-Based Rate Application to be effective 10/27/2011.

Filed Date: 10/27/2011.

Accession Number: 20111027-5166.

Comment Date: 5 p.m. Eastern Time on Thursday, November 17, 2011.

Docket Numbers: ER12-225-000.

Applicants: Stream Energy New Jersey, LLC.

Description: Stream Energy New Jersey, LLC submits tariff filing per 35.12: Market-Based Rate Application to be effective 10/27/2011.

Filed Date: 10/27/2011.

Accession Number: 20111027-5167.

Comment Date: 5 p.m. Eastern Time on Thursday, November 17, 2011.

Docket Numbers: ER12-226-000.

Applicants: Asset and Energy Cost Saving Cooperative.

Description: Kipcon, Inc requests that the Commission cancel their market based rate tariff.

Filed Date: 10/07/2011.

Accession Number: 20111007-0024.

Comment Date: 5 p.m. Eastern Time on Monday, November 7, 2011.

Docket Numbers: ER12-227-000.

Applicants: Southwest Power Pool, Inc.

Description: Southwest Power Pool, Inc. submits tariff filing per 35.13(a)(2)(iii: Energy Imbalance Market Offer Cap Update—2012 to be effective 1/1/2012.

Filed Date: 10/28/2011.

Accession Number: 20111028-5043.

Comment Date: 5 p.m. Eastern Time on Friday, November 18, 2011.

Docket Numbers: ER12-228-000.

Applicants: California Power Exchange Corporation.

Description: California Power Exchange Corporation submits tariff filing per 35.13(a)(2)(iii: California Power Exchange FERC Rate Schedule No. 1 for Rate Period 20 to be effective 1/1/2012.

Filed Date: 10/28/2011.

Accession Number: 20111028-5046.

Comment Date: 5 p.m. Eastern Time on Friday, November 18, 2011.

Take notice that the Commission received the following electric securities filings:

Docket Numbers: ES12-4-000.

Applicants: Portland General Electric Company.

Description: Application of Portland General Electric Company for Short Term Debt Authority.

Filed Date: 10/27/2011.

Accession Number: 20111027-5183.

Comment Date: 5 p.m. Eastern Time on Thursday, November 17, 2011.

Take notice that the Commission received the following land acquisition reports:

Docket Numbers: LA11-3-000.

Applicants: Chestnut Flats Wind, LLC, Sandy Ridge Wind, LLC.

Description: Land Acquisition Report of Chestnut Flats Wind, LLC and Sandy Ridge Wind, LLC.

Filed Date: 10/27/2011.

Accession Number: 20111027-5181.

Comment Date: 5 p.m. Eastern Time on Thursday, November 17, 2011.

Take notice that the Commission received the following public utility holding company filings:

Docket Numbers: PH12-3-000.

Applicants: Brookfield Asset Management Inc.

Description: Notice of Material Change in Facts of Brookfield Asset Management Inc.

Filed Date: 10/28/2011.

Accession Number: 20111028-5037.

Comment Date: 5 p.m. Eastern Time on Friday, November 18, 2011.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 28, 2011.
Nathaniel J. Davis, Sr.,
Deputy Secretary.

[FR Doc. 2011-28867 Filed 11-7-11; 8:45 am]

BILLING CODE 6717-01-P